DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Operator Controversion (CM-970), Operator Response (CM-970A), Operator Response to Schedule for Submission of Additional Evidence (CM-2970) and Operator Response to Notice of Claim (CM-2970A). A copy of the proposed information collection request can be obtained by contacting the office listed below in the ADDRESSES section of this Notice.

DATES: Written comments must be submitted to the office listed in the ADDRESSES section below on or before June 25, 2004.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION: I. Background: The Division of Coal Mine Workers' Compensation administers the Black Lung Benefits Act (30 U.S.C. 901 et. seq.) which provides benefits to coal miners totally disabled due to pneumoniosis, and their surviving dependents. When the Division of Coal Mine Workers' Compensation (DCMWC) makes an initial finding that an applicant is eligible for benefits, and, if a coal mine operator has been identified as potentially liable for payment of those benefits, the responsible operator is notified of the initial finding. The CM-970 gives the operator an opportunity to controvert the liability. The CM-970 is used for all claims filed before January 19, 2001. Regulations require that a coal mine operator be identified and notified of potential liability as early in the adjudication process as possible. The CM-970A is sent to the operator with the Notice of Claim notifying the operator of potential liability of payment for benefits. The CM-970A gives the operator an opportunity to agree or disagree with the identification. The CM-970A is used for all claims filed before January 19, 2001. The CM-2970 and CM-2970A serve the same purposes as the CM-970 and CM-970A these forms will be used for all claims filed after January 19, 2001. Regulatory authority is found in 20 CFR 725.412 for the CM-970, 20 CFR 725.413 for the CM-970A, 20 CFR 725.410 for the CM-2970 and 20 CFR 725.408 for the CM-2970A. This information collection is currently approved for use through September 30, 2004.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The Department of Labor seeks the extension of approval to collect this information in order to carry out its responsibility to administer the Black Lung Benefits Act.

Type of Review: Extension.

Agency: Employment Standards Administration.

Title: Operator Controversion (CM-970), Operator Response (CM-970A), Operator Response to Schedule for Submission of Additional Evidence (CM-2970), Operator Response to Notice of Claim (CM-2970A).

OMB Number: 1215-0058.

Agency Number: CM-970, CM-970A, CM-2970, CM-2970A.

Affected Public: Business or other for-profit; State, Local or Tribal Government.

Total Respondents: 8,200.

Total Annual responses: 8,200.

Frequency: On occasion.

Form | Number of respondents | Average time per response (minutes) | Burden hours
CM-970 | 100 | 15 | 25
CM-970A | 100 | 10 | 17
CM-2970 | 4,000 | 10 | 667
CM-2970A | 4,000 | 15 | 1,000
Total | 8,200 |  | 1,709

Estimated Total Burden Hours: 1,709.

Total Burden Cost (capital/startup): $0.

Total Burden Cost (operating/maintenance): $3,280.00.

Comments submitted in response to this notice will be summarized and/or included in the request for Office of Management and Budget approval of the information collection request; they will also become a matter of public record.

Dated: April 20, 2004.
Bruce Bohanon,
Chief, Branch of Management Review and Internal Control, Division of Financial Management, Office of Management, Administration and Planning, Employment Standards Administration.

[FR Doc. 04-9340 Filed 4-23-04; 8:45 am]

BILLING CODE 4510-CK-P